DEPARTMENT OF LABOR

Employment and Training Administration

[TA-W-37,603]

A. Schulman, Inc., Dispersion Division, Orange, TX; Notice of Negative Determination Regarding Application for Reconsideration

By application dated June 28, 2000, the petitioner, PACE Local 4-836, requests administrative reconsideration of the Department's negative determination regarding eligibility to apply for Trade Adjustment Assistance (TAA), applicable to workers and former workers of the subject firm. The denial notice was signed on May 25, 2000, and published in the Federal Register on June 29, 2000 (65 FR 40135).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The workers at A. Schulman, Inc., Dispersion Division, Orange, Texas, produce polypropylene and polyethylene products (TPPs and PBAs). The workers were denied eligibility to apply for TAA based on the finding that criterion (3) of the worker group eligibility requirements of Section 223 of the Trade Act of 1974, as amended, was not met. Increased imports did not contribute importantly to worker separations at the subject firm.

The petitioner asserts that the production equipment moved to Mexico will be used to produce articles like or directly competitive with those produced by the workers of A. Schulman, Inc. at the Orange, Texas plant.

The Trade Act of 1974 does not contain provisions to certify a worker group based on a shift in production to a foreign country.

Conclusion

After review of the application and investigative findings, I conclude that there has been no error or misinterpretation of the law or of the facts which would justify reconsideration of the Department of Labor's prior decision. Accordingly, the application is denied.

Signed at Washington, D.C. this 12th day of July 2000.
Grant D. Beale,
Program Manager, Division of Trade Adjustment Assistance.

[FR Doc. 00-18352 Filed 7-19-00; 8:45 am]

BILLING CODE 4510-30-M